DEPARTMENT OF AGRICULTURE

Animal and Plant Health Inspection Service

7 CFR Part 301

[Docket No. 05-078-2]

Karnal Bunt; Addition and Removal of Regulated Areas in Arizona

AGENCY: Animal and Plant Health Inspection Service, USDA.

ACTION: Affirmation of interim rule as final rule.

SUMMARY: We are adopting as a final rule, without change, an interim rule that amended the Karnal bunt regulations by adding certain areas in Maricopa and Pinal Counties, AZ, to the list of regulated areas and by removing certain areas or fields in Maricopa County, AZ, from the list of regulated areas. Those actions were necessary to prevent the spread of Karnal bunt into noninfected areas of the United States and to relieve restrictions on certain areas that were no longer necessary.

DATES: Effective on March 7, 2006, we are adopting as a final rule the interim rule that became effective on December 7, 2005.

FOR FURTHER INFORMATION CONTACT: Dr. Vedpal Malik, Karnal Bunt Program Manager, Pest Detection and Management Programs, PPQ, APHIS, 4700 River Road Unit 134, Riverdale, MD 20737-1236; (301) 734-3769.

SUPPLEMENTARY INFORMATION:

Background

In an interim rule effective December 7, 2005, and published in the Federal Register on December 13, 2005 (70 FR 73553-73556, Docket No. 05-078-1), we amended the regulations in “Subpart—Karnal Bunt” (7 CFR 301.89-1 through 301.89-16) by adding certain areas in Maricopa and Pinal Counties, AZ, to the list of regulated areas in § 301.89-3(g), either because they were found during surveys to contain a bunted wheat kernel, or because they are within the 3-mile-wide buffer zone around fields or areas affected with Karnal bunt. In the same interim rule, we also amended the regulations by removing certain areas or fields in Maricopa County, AZ, from the list of regulated areas based on our determination that those fields or areas had met our criteria for release from regulation.

We solicited comments concerning the interim rule for 60 days ending February 13, 2006. We did not receive any comments. Therefore, for the reasons given in the interim rule, we are adopting the interim rule as a final rule.

This final rule also affirms the information contained in the interim rule concerning Executive Order 12866 and the Regulatory Flexibility Act, Executive Orders 12372 and 12988, and the Paperwork Reduction Act.

Further, for this action, the Office of Management and Budget has waived its review under Executive Order 12866.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 70 FR 73553-73556 on December 13, 2005.

Done in Washington, DC, this 28th day of February 2006.
Kevin Shea,
Acting Administrator, Animal and Plant Health Inspection Service.

[FR Doc. 06-2073 Filed 3-6-06; 8:45 am]

BILLING CODE 3410-34-P